DEPARTMENT OF TRANSPORTATION

Federal Aviation Administration

Sixteenth Meeting: Joint RTCA Special Committee 213: EUROCAE WG-79: Enhanced Flight Vision Systems/Synthetic Vision Systems (EFVS/SVS)

AGENCY: Federal Aviation Administration (FAA), Department of Transportation (DOT).

ACTION: Notice of Joint RTCA Special Committee 213: EUROCAE WG-79: Enhanced Flight Vision Systems/Synthetic Vision Systems (EFVS/SVS).

SUMMARY: The FAA is issuing this notice to advise the public of a meeting of Joint RTCA Special Committee 213: EUROCAE WG-79: Enhanced Flight Vision Systems/Synthetic Vision Systems (EFVS/SVS).

DATES: The meeting will be held September 27-29, from 8 a.m.-5 p.m.

ADDRESS: The meeting will be held at Le Canard sur le Toit, 28 chemin de La Salvetat, 31 770 Colomiers, France. For more information contact +33.561.303.783 or Fax +33.561.151.980 (Fax), e-mail: reception@canardsurletoit.com or visit http://www.carnardsurletoit.com. Alternate POC is: RTCA, Inc., 1150 18th Street, NW., Suite 910, Washington, DC 20036. Point of Contact is Jiverson@rtca.org, telephone (202) 833-9339, Fax (202) 833-9434.

FOR FURTHER INFORMATION CONTACT: (1) RTCA Secretariat, 1150 18th Street, NW., Suite 910, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Joint RTCA Special Committee 213: EUROCAE WG-79: Enhanced Flight Vision Systems/Synthetic Vision Systems (EFVS/SVS) meeting.

The agenda will include:

Tuesday, September 27

• 8 a.m.-5 p.m. Plenary

• Introductions and administrative items

• Review and approve minutes from last full plenary meeting (RTCA Paper No. 147-11/SC213-059

• DO-315 items deferred due to applicability to EFVS versus SVS

• ED-179B status and update

• Review SVS/CVS (WG1) and Vision Systems (WG2) objectives

• Work Group 2 (VS) Discussion

Wednesday, September 28

• 8 a.m.-5 p.m. Plenary

• Work Group 2 (VS) Discussion

• Work Group 1 (SVS/CVS) Discussion

Thursday, September 29

• 8 a.m.-3 p.m. Plenary

• Work Group 2 (VS) Discussion

• Work Group 1 (SVS/CVS) Discussion

• Administrative Items (meeting schedule)

• Any other business

• Adjourn

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, August 26, 2011.
Robert L. Bostiga,
RTCA Advisory Committee.

[FR Doc. 2011-22452 Filed 8-31-11; 8:45 am]

BILLING CODE 4910-13-P